ENVIRONMENTAL PROTECTION AGENCY

[ER-FRL-9014-7]

Environmental Impact Statements; Notice of Availability

Responsible Agency: Office of Federal Activities, General Information (202) 564-7146 or http://www.epa.gov/compliance/nepa/.

Weekly receipt of Environmental Impact Statements

Filed 04/21/2014 Through 04/25/2014

Pursuant to 40 CFR 1506.9.

Notice

Section 309(a) of the Clean Air Act requires that EPA make public its comments on EISs issued by other Federal agencies. EPA's comment letters on EISs are available at: http://www.epa.gov/compliance/nepa/eisdata.html.

EIS No. 20140130, Final EIS, USFS, MT, Buckhorn Project, Review Period Ends: 06/02/2014, Contact: Patricia Shira 406-295-4693.

EIS No. 20140131, Draft EIS, USACE, CA, Berths 212-224 (YTI) Container Terminal Improvements Project, Comment Period Ends: 06/16/2014, Contact: Theresa Stevens 805-585-2146.

Amended Notices

EIS No. 20140105, Draft EIS, NOAA, CA, Cordell Bank and Gulf of the Farallones Boundary Expansion, Comment Period Ends: 06/30/2014, Contact: Maria Brown 415-561-6622. Revision to FR Notice Published 04/04/2014; Correction to Agency Contact Phone Number should read 415-561-6622.

EIS No. 20140125, Final EIS, FRA, CA, California High-Speed Train (HST): Fresno to Bakersfield Section High-Speed Train, Review Period Ends: 05/27/2014, Contact: Stephanie Perez 202-493-0388. Revision to the FR Notice Published 04/25/2014; Correcting Lead Agency from FHWA to FRA.

Dated: April 29, 2014.
Cliff Rader,
Director, NEPA Compliance Division, Office of Federal Activities.

[FR Doc. 2014-10137 Filed 5-1-14; 8:45 am]

BILLING CODE 6560-50-P